DEPARTMENT OF STATE

[Public Notice 7459]

30-Day Notice of Proposed Information Collection: Form DS-6561, Pre-Assignment for Overseas Duty, OMB 1405-XXXX

ACTION: Notice of request for public comments.

SUMMARY: The Department of State is seeking Office of Management and Budget (OMB) approval for the information collection described below. The purpose of this notice is to allow 30 days for public comment in the Federal Register preceding submission to OMB. We are conducting this process in accordance with the Paperwork Reduction Act of 1995.

• Title of Information Collection: Pre-Assignment for Overseas Duty.

• OMB Control Number: 1405-XXXX.

• Type of Request: New.

• Originating Office: Office of Medical Services, M/MED/C/MC.

• Form Number: DS-6561.

• Respondents: Employees and Family Members from Non-Foreign Affairs Agencies.

• Estimated Number of Respondents: 8,000 per year.

• Estimated Number of Responses: 8,000 per year

• Average Hours per Response: 1 hour per response.

• Total Estimated Burden: 8,000 hours.

• Frequency: Every 2 to 3 years.

• Obligation to Respond: Mandatory to retain medical clearance.

DATES: The Department will accept comments from the public up to 60 days from May 17, 2011.

ADDRESSES: You may submit comments by any of the following methods:

• E-mail: mahoneybj@state.gov. You must include the DS form number, information collection title, and OMB control number in the subject line of your message.

• Mail (paper, disk, or CD-ROM submissions): Department of State, Office of Medical Clearances, SA-15 Room 400, 1800 North Kent St., Rosslyn, VA 22209.

• Fax: 703-875-4850.

You must include the DS form number (if applicable), information collection title, and OMB control number in any correspondence.

FOR FURTHER INFORMATION CONTACT: Direct requests for additional information regarding the collection listed in this notice, including requests for copies of the proposed information collection and supporting documents, to Barbara Mahoney, Department of State, Office of Medical Clearances, SA-15 Room 400, 1800 North Kent St., Rosslyn, VA 22209. FAX 703-875-4850.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-6561 provides a concise summary of basic medical history, lab tests and physical examination for employees and family members that are not members of one of the five Foreign Affairs agencies to include, State, USAID, Foreign Commercial Service, Foreign Agricultural Service, and Board of Broadcasting Governors. It is designed to collect current and adequate information on which medical providers can base decisions on whether an employee and family members will have sufficient medical resources at a diplomatic mission abroad to maintain their health and fitness.

Methodology:

The information collected will be collected through the use of an electronic forms engine or by hand written submission using a pre-printed form.

Dated: May 3, 2011.
Joseph Kenny,
Executive Director, Department of State, Office of Medical Services.

[FR Doc. 2011-12060 Filed 5-16-11; 8:45 am]

BILLING CODE 4710-36-P